DEPARTMENT OF LABOR

Employment and Training Administration

[TA-W-71,248]

International Business Machines Corporation, Global Technology Services Business Unit, Integrated Technology Services, Cost and Expense Team, Payroll, Travel and Mobility Services Team, Working From Various States In the United States, Reporting to Armonk, New York, Including On-Site Leased Workers From Datrose, Inc., Armonk, New York; Amended Certification Regarding Eligibility To Apply for Worker Adjustment Assistance

In accordance with Section 223 of the Trade Act of 1974, as amended (“Act”), 19 U.S.C. 2273, the Department of Labor issued a Certification of Eligibility to apply for Worker Adjustment Assistance on July 31, 2009, applicable to workers of International Business Machines Corporation, Global Technology Services Business Unit, Integrated Technology Services, Cost and Expense Team, working from various states in the United States and reporting to Armonk, New York. The Department's notice was published in the Federal Register on April 23, 2010 (75 FR 21355).

The certification was amended on April 8, 2010 to leased workers from Datrose, Inc. working on-site at the Armonk, New York facility. The Department's notice was published in the Federal Register on April 19, 2010 (75 FR 20388-20389).

At the request of a company official, the Department reviewed the certification for workers of the subject firm. The workers are engaged in activities related to support for the Global Technology Services Business Unit.

The company reports that workers of the Payroll, Travel, and Mobility Services Team were part of the International Business Machines Corporation, Global Technology Services Business Unit, Integrated Technology Services, reporting to the Armonk, New York facility. The Department has determined that workers of the Payroll, Travel, and Mobility Services Team were affected by the subject firm's shift in supply of like or directly competitive services to India.

Based on these findings, the Department is amending this certification to include workers in the Payroll, Travel, and Mobility Services Team of International Business Machines Corporation, Global Technology Services Business Unit, Integrated Technology Services, reporting to the Armonk, New York facility.

The amended notice applicable to TA-W-71,248 is hereby issued as follows:

All workers of International Business Machines Corporation, Global Technology Services Business Unit, Integrated Technology Services, Cost and Expense Team, Payroll, Travel, and Mobility Services Team, working in various states but reporting to Armonk, New York, including on-site leased workers from Datrose, Inc., Armonk, New York, who became totally or partially separated from employment on or after June 1, 2008, through July 31, 2011, and all workers in the group threatened with total or partial separation from employment on date of certification through two years from the date of certification, are eligible to apply for adjustment assistance under Chapter 2 of Title II of the Trade Act of 1974, as amended.

Signed in Washington, DC, this 21st day of January, 2011.
Del Min Amy Chen,
Certifying Officer, Office of Trade Adjustment Assistance.

[FR Doc. 2011-2249 Filed 2-1-11; 8:45 am]

BILLING CODE 4510-FN-P